DEPARTMENT OF TRANSPORTATION

Federal Aviation Administration

[Summary Notice No. PE-2002-03]

Petitions for Exemption

AGENCY: Federal Aviation Administration (FAA), DOT.

ACTION: Notice of dispositions of prior petitions.

SUMMARY: Pursuant to FAA's rulemaking provisions governing the application, processing, and disposition of petitions for exemption part 11 of Title 14, Code of Federal Regulations (14 CFR), this notice contains a summary of dispositions of certain petitions previously received. The purpose of this notice is to improve the public's awareness of, and participation in, this aspect of FAA's regulatory activities. Neither publication of this notice nor the inclusion or omission of information in the summary is intended to affect the legal status of any petition or its final disposition.

FOR FURTHER INFORMATION CONTACT: Forest Rawls (202) 267-8033, Sandy Buchanan-Sumter (202) 267-7271, or Vanessa Wilkins (202) 267-8029, Office of Rulemaking (ARM-1), Federal Aviation Administration, 800 Independence Avenue, SW., Washington, DC 20591.

This notice is published pursuant to 14 CFR 11.85 and 11.91.

Issued in Washington, DC, on January 24, 2002.
Donald P. Byrne,
Assistant Chief Counsel for Regulations.

Dispositions of Petitions

Docket No.: FAA-2001-11080 (previous Docket No. 29661).

Petitioner: Experimental Aircraft Association, Small Aircraft Manufacturers Association, and National Association of Flight Instructors.

Section of 14 CFR Affected: 14 CFR 91.319(a)(1) and (2).

Description of Relief Sought/Disposition: To permit permits EAA, SAMA, and NAFI members who own certain amateur- and kit-built aircraft certificated in the experimental category to receive compensation for the use of the aircraft for the purpose of conducting aircraft-specific flight training and flight review under 14 CFR 61.56.

Grant, 12/20/2001, Exemption No. 7162B.

Docket No.: 28963.

Petitioner: Wiggins Airways, Inc.

Section of 14 CFR Affected: 14 CFR 43.3.

Description of Relief Sought/Disposition: To permit properly trained pilots employed by Wiggins to change the electrical leads from the ignition exciter box to the spare ignition exciter box, in the event of an ignition box failure, on its Cessna C-208B Caravan aircraft (C-208B) for operations conducted under 14 CFR part 135.

Denial, 12/03/2001, Exemption No. 7671.

Docket No.: FAA-2001-10481.

Petitioner: The Boeing Company, Boeing Commercial Airplanes Group.

Section of 14 CFR Affected: 14 CFR 145.45(f).

Description of Relief Sought/Disposition: To permit Boeing to give copies of its inspection procedures manual (IPM) to key individuals and make the manual available electronically to all other employees, rather than give a copy of the IPM to each of its supervisory and inspection personnel.

Grant, 11/29/2001, Exemption No. 7065A.

Docket No.: FAA-2001-8940.

Petitioner: Mr. Scot Alexander Liefeld.

Section of 14 CFR Affected: 14 CFR 65.104(a)(2).

Description of Relief Sought/Disposition: To permit Mr. Liefeld to be eligible to apply for a repairman certificate (experimental aircraft builder) for the Pietenpol Air Camper kit airplane (registration No. N11MS, serial No. MS1), without being the primary builder.

Grant, 12/03/2002, Exemption No. 7672.

Docket No.: FAA-2001-8614.

Petitioner: GE On Wing Support, Inc.

Section of 14 CFR Affected: 14 CFR 145.37(b).

Description of Relief Sought/Disposition: To permit GE OWS to qualify for an airframe rating without having suitable permanent housing for at least one of the heaviest aircraft within the weight class of the rating it seeks.

Denial, 12/03/2001, Exemption No. 7670.

[FR Doc. 02-2146 Filed 1-28-02; 8:45 am]

BILLING CODE 4910-13-M